DEPARTMENT OF COMMERCE

International Trade Administration

National Institute of Standards and Technology Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5:00 P.M. in Room 4211, U.S. Department of Commerce, 14th and Constitution Avenue, NW., Washington, DC.

Docket Number: 00-029.

Applicant: National Institute of Standards and Technology, Gaithersburg, MD 20899-8221.

Instrument: Vacuum Balance and Vacuum Chamber.

Manufacturer: Metrotec Engineering ag, Switzerland.

Intended Use: See notice at 65 FR 62334, October 18, 2000.

Comments: None received.

Decision: Approved. No instrument of equivalent scientific value to the foreign instrument, for such purposes as it is intended to be used, is being manufactured in the United States.

Reasons: The foreign instrument provides: (1) Resolution of 0.1 μg, (2) a fully automated chamber permitting continuous unattended weighing and (3) repeatability of measurements under vacuum to 0.3 μg. The U.S. Air Force Measurement and Standards Laboratories advised November 28, 2000 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 00-32171 Filed 12-18-00; 8:45 am]

BILLING CODE 3510-DS-P